DEPARTMENT OF COMMERCE

National Oceanic and Atmospheric Administration

[RTID 0648-XC035]

Endangered and Threatened Species; Take of Abalone

AGENCY: National Marine Fisheries Service (NMFS), National Oceanic and Atmospheric Administration (NOAA), Commerce.

ACTION: Notice of receipt of application; two scientific research and enhancement permits.

SUMMARY: Notice is hereby given that NMFS has received permit application requests for two new scientific research and enhancement permits for black abalone. The proposed work is intended to increase knowledge of species listed under the Endangered Species Act (ESA) and to help guide management, conservation, and recovery efforts. The applications may be viewed online at: https://apps.nmfs.noaa.gov/preview/preview_open_for_comment.cfm.

DATES: Comments or requests for a public hearing on the application must be received at the provided email address (see ADDRESSES) on or before June 17, 2022.

ADDRESSES: All written comments on the applications should be submitted by email to nmfs.wcr-apps@noaa.gov. Please include the permit number (26342 or 26606) in the subject line of the email.

FOR FURTHER INFORMATION CONTACT: Susan Wang, Long Beach, CA (email: Susan.Wang@noaa.gov). Permit application instructions are available from the address above, or online at https://apps.nmfs.noaa.gov.

SUPPLEMENTARY INFORMATION:

ESA Listed Species Covered in This Notice

Endangered black abalone (Haliotis cracherodii).

Authority

Scientific research permits are issued in accordance with section 10(a)(1)(A) of the ESA (16 U.S.C. 1531 et seq.) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on the application listed in this notice should set out the specific reasons why a hearing on the application would be appropriate (see ADDRESSES). Such hearings are held at the discretion of the Assistant Administrator for Fisheries, NMFS.

Applications Received

Permit 26342

The University of California, Santa Cruz (UCSC), has requested a research and enhancement permit to authorize the rescue and relocation of black abalone in response to emergency events that pose a risk to black abalone and their habitat. Emergency events include oil spills, landslides, debris flows, and vessel groundings. The purpose of the research and enhancement permit is to enhance the survival of endangered black abalone through rescue and relocation. The permit would authorize activities for ten years.

Activities would include collection of black abalone and removal from the wild, captive holding for one day to several months, reintroduction to the wild, and monitoring. Activities would also include long-term holding, spawning, culturing, and experimental outplanting studies. Collected abalone would be photographed, measured, weighed, visually assessed for health and gonad condition, genetically sampled (e.g., a swab and/or an epipodial clipping), and tagged. A proportion of the abalone may be injured or killed due to collection and handling. Severely injured abalone would be held in captivity for rehabilitation. Dead abalone would be preserved and available for analysis at approved labs. Researchers would coordinate closely with NMFS, the California Department of Fish and Wildlife, and other partners on all emergency response activities and follow protocols to minimize stress and harm to rescued black abalone.

Permit 26606

The UCSC has also requested a research and enhancement permit to authorize the collection and transplanting of black abalone. The purpose of this permit is to advance recovery of black abalone by evaluating transplantation as a tool to re-establish populations where they have been locally extirpated and to enhance populations that have experienced declines. The permit would authorize activities for five years.

Activities would include collection of black abalone and removal from the wild, captive holding for one to several days, release at the restoration sites, and monitoring. Collected abalone would be photographed, measured, weighed, visually assessed for health and gonad condition, genetically sampled (e.g., a swab and/or an epipodial clipping), and tagged. A proportion of the abalone may be injured or killed due to collection and handling. Severely injured abalone would be held in captivity for rehabilitation. Dead abalone would be preserved and available for analysis at approved labs. Researchers would coordinate closely with NMFS, the California Department of Fish and Wildlife, and other partners on all collection and transplanting activities and follow protocols to minimize stress and harm to black abalone.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: May 12, 2022.
Angela Somma,
Chief, Endangered Species Division, Office of Protected Resources, National Marine Fisheries Service.

[FR Doc. 2022-10593 Filed 5-17-22; 8:45 am]

BILLING CODE 3510-22-P